FEDERAL DEPOSIT INSURANCE CORPORATION

Sunshine Act Meeting

Pursuant to the provisions of the “Government in the Sunshine Act” (5 U.S.C. 552b), notice is hereby given that the Federal Deposit Insurance Corporation's Board of Directors will meet in open session at 10:00 a.m. on Tuesday, October 21, 2014, to consider the following matters:

Summary Agenda: No substantive discussion of the following items is anticipated. These matters will be resolved with a single vote unless a member of the Board of Directors requests that an item be moved to the discussion agenda.

Disposition of minutes of previous Board of Directors' Meetings.

Memorandum and resolution re: Proposed Rule to Revise 12 CFR part 340, “Restrictions on Sales of Assets by the Federal Deposit Insurance Corporation”.

Memorandum and resolution re: Joint Notice of Proposed Rulemaking for the Purpose of Implementing the Escrow Requirements of the Homeowner Flood Insurance Affordability Act.

Memorandum and resolution re: Notice of Proposed Rulemaking Regarding the Retention of Records of a Covered Financial Company and of the FDIC as Receiver pursuant to the Dodd-Frank Act.

Memorandum and resolution re: Designated Reserve Ratio for 2015.

Memorandum and resolution re: Final Rule regarding Part 390 Subpart U and Part 335—Securities of State Nonmember Banks and State Savings Associations.

Summary reports, status reports, reports of the Office of Inspector General, and reports of actions taken pursuant to authority delegated by the Board of Directors.

Discussion Agenda: Memorandum and resolution re: Final Rule: Credit Risk Retention.

Briefing re: Update of Projected Deposit Insurance Fund Losses, Income, and Reserve Ratios for the Restoration Plan.

The meeting will be held in the Board Room temporarily located on the fourth floor of the FDIC Building located at 550 17th Street NW., Washington, DC.

This Board meeting will be Webcast live via the Internet and subsequently made available on-demand approximately one week after the event. Visit https://fdic.primetime.mediaplatform.com/#/channel/1232003497484/Board+Meetings to view the event. If you need any technical assistance, please visit our Video Help page at: http://www.fdic.gov/video.html.

The FDIC will provide attendees with auxiliary aids (e.g., sign language interpretation) required for this meeting. Those attendees needing such assistance should call 703-562-2404 (Voice) or 703-649-4354 (Video Phone) to make necessary arrangements.

Requests for further information concerning the meeting may be directed to Mr. Robert E. Feldman, Executive Secretary of the Corporation, at 202-898-7043.

Dated: October 16, 2014.
Federal Deposit Insurance Corporation.
Robert E. Feldman,
Executive Secretary.

[FR Doc. 2014-24993 Filed 10-16-14; 4:15 pm]

BILLING CODE P